ENVIRONMENTAL PROTECTION AGENCY

[EPA-HQ-OPPT-2014-0838; FRL-12379-01-OCSPP]

Agency Information Collection Activities; Proposed Renewal of an Existing ICR Collection and Request for Comment; Assessment of Environmental Performance Standards and Ecolabels for Federal Procurement

AGENCY: Environmental Protection Agency (EPA).

ACTION: Notice.

SUMMARY: In compliance with the Paperwork Reduction Act (PRA), this document announces the availability of and solicits public comment on the following Information Collection Request (ICR) that EPA is planning to submit to the Office of Management and Budget (OMB): “Assessment of Environmental Performance Standards and Ecolabels for Federal Procurement,” identified by EPA ICR No. 2516.05 and OMB Control No. 2070-0199. This ICR represents a renewal of an existing ICR that is currently approved through September 30, 2025. Before submitting the ICR to OMB for review and approval under the PRA, EPA is soliciting comments on specific aspects of the information collection that is summarized in this document. The ICR and accompanying material are available in the docket for public review and comment.

DATES: Comments must be received on or before January 27, 2025.

ADDRESSES: Submit your comments, identified by docket identification (ID) number EPA-HQ-OPPT-2014-0838, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Mission Support Division (7602M), Office of Program Support, Office of Chemical Safety and Pollution Prevention, Environmental Protection Agency, 1200 Pennsylvania Ave. NW, Washington, DC 20460-0001; telephone number: (703) 719-1649; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Assessment of Environmental Performance Standards and Ecolabels for Federal Procurement.

EPA ICR No.: 2516.05.

OMB Control No.: 2070-0199.

ICR status: This ICR is currently approved through September 30, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers the information collection activities associated with the Agency's evaluation of private sector standards and ecolabels per EPA's Framework for the Assessment of Environmental Performance Standards and Ecolabels for Federal Purchasing (Framework), formerly referred to as the Guidelines. EPA's goal in developing this Framework is to create a transparent, fair, and consistent approach to selecting product environmental performance standards and ecolabels to support the Agency's mission and federal sustainable acquisition goals and mandates. The fundamental aim of this Framework is to establish a cross-sector approach to be used in recognizing private sector environmental performance standards (and consequently, environmentally preferable products and services meeting these standards) for use in federal purchasing.

Burden statement: The annual public reporting and recordkeeping burden for this collection of information is estimated to average 8.5 hours per response. Burden is defined in 5 CFR 1320.3(b).

The ICR, which is available in the docket along with other related materials, provides a detailed explanation of the collection activities and the burden estimate that is only briefly summarized here:

Respondents/affected entities: Entities potentially affected are standard development organizations, ecolabel programs, and certification entities that manage product or service environmental performance standards and/or ecolabels that could be considered for use in United States federal sustainable procurement efforts.

Respondent's obligation to respond: Voluntary. See 15 U.S.C. 3701 and 42 U.S.C. 13103(b)(11).

Forms: EPA Form No. 9600-038.

Frequency of response: On Occasion.

Total estimated number of potential respondents: 100.

Total estimated average number of responses for each respondent: 2.

Total estimated annual burden hours: 613 hours.

Total estimated annual respondent costs: $49,284 which includes $0 for capital investment or maintenance and operational costs.

III. Are there changes in the estimates from the last approval?

There is a decrease in burden of 94 hours. The burden decrease is a result of the decrease of respondents that were not previously assessed per EPA Framework. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: November 21, 2024.
Michal Freedhoff,
Assistant Administrator, Office of Chemical Safety and Pollution Prevention.

[FR Doc. 2024-27816 Filed 11-26-24; 8:45 am]

BILLING CODE 6560-50-P